DEPARTMENT OF COMMERCE

National Oceanic and Atmospheric Administration

[I.D. 041603B]

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (MAFMC) and its Ad-Hoc Magnuson-Stevens Act Reauthorization Act Committee; Executive Committee; Squid, Mackerel, Butterfish Committee, and its Demersal Species Committee meeting as a Council Committee of the Whole will hold a public meeting.

DATES: The meetings will be held on Tuesday, May 6, through Thursday, May 8, 2003. See SUPPLEMENTARY INFORMATION for specific dates and times.

ADDRESSES: This meeting will be held at the Westin Hotel New York at Times Square, 270 West 43rd Street, New York, NY; telephone: 212-201-2700.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: On Tuesday, May 6, the Ad-Hoc Magnuson- Stevens Act Reauthorization Committee will meet from 1 p.m. to 4 p.m. The Executive Committee will meet from 4 p.m. to 5 p.m. On Wednesday, May 7, the Squid, Mackerel, Butterfish Committee will meet from 8 a.m. to 9:30 a.m. The MAFMC will meet from 9:30 a.m. until 5 p.m. On Thursday, May 8, the MAFMC will meet from 8 a.m. until 1 p.m.

Agenda items for the Council's committees and the Council itself are: review most recent Council Chairmen's position on Magnuson-Stevens Act, review most recent MAFMC's position on Magnuson-Stevens Act, review input received on Magnuson-Stevens Act; the Executive Committee will review status of Council Request for Proposal (RFP) re audit of 1999, 2000, and 2001 operations; the Squid, Mackerel, Butterfish Committee will discuss implications of limited access in herring fishery, discuss limited access system for Atlantic mackerel, discuss possible coordination mechanisms for joint approach to limited access; the Council will review staff's recommendations regarding adoption of public hearing document for Amendment 9 to the Squid, Mackerel, Butterfish Fishery Management Plan (FMP), and approve public hearing document for adoption of Amendment 9; presentation of NOAA Environmental Hero Award to Phil Ruhle; discuss and approve actions to be included in Framework 3 to the Summer Flounder, Scup, and Black Sea Bass FMP, discuss Amendment 14 possibilities, discuss and develop a MAFMC position regarding the Atlantic States Marine Fisheries Commission's (ASMFC) Addendum VIII, and discuss previous Council motion regarding vessel/power upgrade; hear a presentation on the NMFS Northeast Fisheries Science Center Observer Program; receive and discuss organizational and committee reports including Protected Resources, Executive Committee actions, New England Council's report regarding possible actions on herring, groundfish, monkfish, red crab, scallops, skates, and whiting; South Atlantic Council's report; and, Highly Migratory Species (HMS) issues. Act on any continuing and/or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at the Council (see ADDRESSES) at least 5 days prior to the meeting date.

Dated: April 16, 2003.
Matteo J. Milazzo,
Acting Director, Office of Sustainable Fisheries, National Marine Fisheries Service.

[FR Doc. 03-9929 Filed 4-21-03; 8:45 am]

BILLING CODE 3510-22-S